DEPARTMENT OF ENERGY

Federal Energy Regulatory Commission

Combined Notice of Filings #1

Take notice that the Commission received the following electric corporate filings:

Docket Numbers: EC20-29-000.

Applicants: Northeast Energy Associates, A Limited Partnership, North Jersey Energy Associates, A Limited Partnership, Vistra Energy Corp., NextEra Energy, Inc.

Description: Application for Authorization Under Section 203 of the Federal Power Act, et al. of Northeast Energy Associates, A Limited Partnership, et al.

Filed Date: 1/7/20.

Accession Number: 20200107-5110.

Comments Due: 5 p.m. ET 1/28/20.

Take notice that the Commission received the following electric rate filings:

Docket Numbers: ER13-2100-005; ER13-2109-009; ER13-434-007; ER16-1750-006; ER16-2601-004; ER17-2292-004; ER17-2381-003; ER19-1656-003.

Applicants: Virginia Electric and Power Company, Dominion Energy Generation Marketing, Inc., Fowler Ridge Wind Farm LLC, Summit Farms Solar, LLC, Southampton Solar, LLC, Scott-II Solar LLC, Wilkinson Solar LLC.

Description: Notice of Non-Material Change in Status of the Dominion Energy PJM Companies.

Filed Date: 1/7/20.

Accession Number: 20200107-5122.

Comments Due: 5 p.m. ET 1/28/20.

Docket Numbers: ER19-1501-001.

Applicants: Appalachian Power Company, PJM Interconnection, L.L.C.

Description: Compliance filing: PJM TOs submit revisions in compliance with the Commission's 12/19/2019 to be effective 4/22/2016.

Filed Date: 1/7/20.

Accession Number: 20200107-5108.

Comments Due: 5 p.m. ET 1/28/20.

Docket Numbers: ER20-743-000.

Applicants: Southern California Edison Company.

Description: § 205(d) Rate Filing: Amended Service Agreement Procter & Gamble Paper Products Company to be effective 1/1/2020.

Filed Date: 1/7/20.

Accession Number: 20200107-5099.

Comments Due: 5 p.m. ET 1/28/20.

Docket Numbers: ER20-744-000.

Applicants: Actual Energy, Inc.

Description: Baseline eTariff Filing: Market-Based Rate Tariff Application to be effective 1/8/2020.

Filed Date: 1/7/20.

Accession Number: 20200107-5100.

Comments Due: 5 p.m. ET 1/28/20.

Docket Numbers: ER20-745-000.

Applicants: PacifiCorp.

Description: § 205(d) Rate Filing: Calpine NITSA Rev 13 to be effective 1/1/2020.

Filed Date: 1/7/20.

Accession Number: 20200107-5101.

Comments Due: 5 p.m. ET 1/28/20.

Docket Numbers: ER20-746-000.

Applicants: Arizona Public Service Company.

Description: § 205(d) Rate Filing: Service Agreement No. 375 Papago LLC to be effective 12/23/2019.

Filed Date: 1/7/20.

Accession Number: 20200107-5102.

Comments Due: 5 p.m. ET 1/28/20.

Docket Numbers: ER20-747-000.

Applicants: PJM Interconnection, L.L.C.

Description: Tariff Cancellation: Notice of Cancellation of Service Agreement No. 3466, Queue No. NQ77 to be effective 3/14/2020.

Filed Date: 1/7/20.

Accession Number: 20200107-5103.

Comments Due: 5 p.m. ET 1/28/20.

Docket Numbers: ER20-748-000.

Applicants: Arizona Public Service Company.

Description: § 205(d) Rate Filing: Service Agreement Nos. 367 and 376 to be effective 12/9/2019.

Filed Date: 1/7/20.

Accession Number: 20200107-5104.

Comments Due: 5 p.m. ET 1/28/20.

Docket Numbers: ER20-749-000.

Applicants: AEP Texas Inc.

Description: § 205(d) Rate Filing: AEPTX-Woodward Mountain Wind GIA 3rd Amended and Restated to be effective 12/19/2019.

Filed Date: 1/7/20.

Accession Number: 20200107-5106.

Comments Due: 5 p.m. ET 1/28/20.

Docket Numbers: ER20-750-000.

Applicants: Dominion Energy South Carolina, Inc.

Description: Late-Filed Borderline Agreement, et al. of Dominion Energy South Carolina, Inc.

Filed Date: 1/7/20.

Accession Number: 20200107-5119.

Comments Due: 5 p.m. ET 1/28/20.

Docket Numbers: ER20-751-000.

Applicants: El Paso Electric Company.

Description: § 205(d) Rate Filing: Service Agreement No. 327, Short-Term Conditional Firm PTP Agreement with EDF to be effective 3/9/2020.

Filed Date: 1/8/20.

Accession Number: 20200108-5062.

Comments Due: 5 p.m. ET 1/29/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 8, 2020.
Nathaniel J. Davis, Sr.,
Deputy Secretary.

[FR Doc. 2020-00439 Filed 1-13-20; 8:45 am]

BILLING CODE 6717-01-P